OFFICE OF PERSONNEL MANAGEMENT

Submission for Review: 3206-0156, Application for Death Benefits Under the Civil Service Retirement System (SF 2800); Documentation in Support of Application for Death Benefits When Deceased Was an Employee at the Time of Death (SF 2800A)

AGENCY: Office of Personnel Management.

ACTION: 60-Day notice and request for comments.

SUMMARY: Office of Personnel Management (OPM) offers the general public and other federal agencies the opportunity to comment on the reinstatement of an expired information collection request (ICR), Application for Death Benefits/Documentation and Elections in Support of Application for Death Benefits When Deceased Was an Employee at the Time of Death (CSRS).

DATES: Comments are encouraged and will be accepted until July 7, 2025.

ADDRESSES: You may submit comments, identified by docket number and/or Regulatory Information Number (RIN) and title, by the following method:

—Federal Rulemaking Portal: http://www.regulations.gov. Follow the instructions for submitting comments.

All submissions received must include the agency name and docket number or RIN for this document. The general policy for comments and other submissions from members of the public is to make these submissions available for public viewing at http://www.regulations.gov as they are received without change, including any personal identifiers or contact information.

FOR FURTHER INFORMATION CONTACT: A copy of this ICR with applicable supporting documentation may be obtained by contacting the Retirement Services Publications Team, Office of Personnel Management, 1900 E Street NW, Room 3316-L, Washington, DC 20415, Attention: Cyrus S. Benson, or via electronic mail at RSPublicationsTeam@opm.gov or via telephone at (202) 936-0401.

SUPPLEMENTARY INFORMATION: As required by the Paperwork Reduction Act of 1995 (Pub. L. 104-13) as amended (44 U.S.C. chapter 35), OPM is soliciting comments for this collection (OMB No. 3206-0156). The Office of Personnel Management is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form (SF) 2800 is needed to collect information so that OPM can pay death benefits to the survivors of Federal employees and annuitants in the Civil Service Retirement System (CSRS). SF 2800A allows OPM to collect the information needed for deaths in service, including information so that survivors can make the needed elections regarding military service. OPM is considering whether the SF 2800 and SF 2800A forms should be common forms since they are used by agencies across government.

Analysis

Agency: Retirement Operations, Retirement Services, Office of Personnel Management.

Title: Application for Death Benefits under the Civil Service Retirement System (SF 2800); and Documentation and Elections in Support of Application for Death Benefits When Deceased Was an Employee at the Time of Death (SF 2800A).

OMB Number: 3206-0156.

Frequency: On occasion.

Affected Public: Individuals or Households.

Number of Respondents: SF 2800 = 40,000; SF 2800A = 400.

Estimated Time per Respondent: SF 2800 = 45 minutes; SF 2800A = 45 minutes.

Total Burden Hours: 30,300 (SF 2800 = 30,000; SF 2800A = 300).

Office of Personnel Management.
Alexys Stanley,
Federal Register Liaison.

[FR Doc. 2025-07882 Filed 5-5-25; 8:45 am]

BILLING CODE 6325-38-P